DEPARTMENT OF THE INTERIOR

Fish and Wildlife Service

National Wildlife Refuges, North Dakota

AGENCY: Fish and Wildlife Service, Interior.

ACTION: Notice of intent to prepare a comprehensive conservation plan and environmental assessment; request for comments.

SUMMARY: We, the U.S. Fish and Wildlife Service (Service, we) intend to gather information necessary to prepare a comprehensive conservation plan (CCP) and associated environmental documents for twelve (12) National Wildlife Refuges (NWRs) located in the State of North Dakota. The twelve (12) NWRs are Stump Lake, Lake Alice, Kellys Slough, Audubon, Chase Lake, Lake Nettie, McLean, Lake Zahl, Shell Lake, White Lake, Lake Ilo, and Stewart Lake. We furnish this notice in compliance with our CCP policy to advise other agencies and the public of our intentions, and to obtain suggestions and information on the scope of issues to be considered in the planning process.

DATES: To ensure consideration, we must receive your written comments by March 30, 2007.

ADDRESSES: Send your comments or requests for more information to John Esperance, Planning Team Leader, Division of Refuge Planning, P.O. Box 25486, Denver Federal Center, Denver, CO 80225.

FOR FURTHER INFORMATION CONTACT: John Esperance, 303-236-4369, or Michael Spratt, 303-236-4366.

SUPPLEMENTARY INFORMATION: With this notice, the Service initiates a CCP for twelve (12) NWRs in various locations throughout the State of North Dakota.

Background

The CCP Process

The National Wildlife Refuge System Administration Act of 1966, as amended by the National Wildlife Refuge System Improvement Act of 1997 (16 U.S.C. 668dd-668ee), requires the Service to develop a CCP for each NWR. The purpose in developing a CCP is to provide refuge managers with a 15-year strategy for achieving refuge purposes and contributing toward the mission of the National Wildlife Refuge System, consistent with sound principles of fish and wildlife management, conservation, legal mandates, and Service policies. In addition to outlining broad management direction on conserving wildlife and their habitats, plans identify wildlife-dependent recreational opportunities available to the public, including opportunities for hunting, fishing, wildlife observation, wildlife photography, and environmental education and interpretation.

The Service established each unit of the National Wildlife Refuge System, including these twelve (12) NWRs, with specific purposes. We use these purposes to develop and prioritize management goals and objectives within the National Wildlife Refuge System mission, and to guide which public uses will occur on these NWRs. The planning process is a way for the Service and the public to evaluate management goals and objectives for the best possible conservation efforts of this important wildlife habitat, while providing for wildlife-dependent recreation opportunities that are compatible with each NWR and the mission of the National Wildlife Refuge System.

The Service will conduct a comprehensive conservation planning process that will provide opportunity for Tribal, State, and local governments; agencies; organizations; and the public to participate in issue scoping and public comment. We request input for issues, concerns, ideas, and suggestions for the future management of these NWRs in North Dakota. We invite anyone interested to respond to the following two questions.

(1) What problems or issues do you want to see addressed in the CCP?

(2) What improvements would you recommend for these twelve (12) NWRs?

We have provided the above questions for your optional use; you are not required to provide information to us. The planning team developed these questions to gather information about individual issues and ideas concerning these NWRs. Our planning team will use the comments it receives as part of the planning process; however, we will not reference individual comments in our reports or directly respond to them.

We will also give the public an opportunity to provide input at an open house to scope issues and concerns. You can obtain the schedule from the Planning Team Leaders (see ADDRESSES). You may also submit comments anytime during the planning process by writing to the above addresses. All information provided voluntarily by mail, phone, or at public meetings becomes part of our official public record (i.e., names, addresses, letters of comment, input recorded during meetings). If a private citizen or organization requests this information under the Freedom of Information Act, we may provide informational copies.

The Service will conduct the environmental review of this project in accordance with the requirements of the National Environmental Policy Act of 1969, as amended (42 U.S.C. 4321 et seq.); NEPA Regulations (40 CFR parts 1500-1508); other appropriate Federal laws and regulations; and our policies and procedures for compliance with those regulations. All comments we receive from individuals on our environmental assessments and environmental impact statements become part of the official public record. We will handle requests for such comments in accordance with the Freedom of Information Act, NEPA (40 CFR 1506.6(f)), and other Departmental and Service policies and procedures. When we receive a request, we generally will provide comment letters with the names and addresses of the individuals who wrote the comments. However, to the extent permissible by law, we will not provide the telephone number of the commenting individual in response to such requests.

North Dakota NWRs

These twelve (12) NWRs were established for the protection of critical migratory waterfowl habitat within the State of North Dakota. Through these NWRs, the Service manages a complex of wetlands in 34 counties within North Dakota. The wetlands range from seasonal shallow basins to deeper, more permanent ponds that provide resting and feeding areas for millions of birds during Spring and Fall migration.

Dated: January 30, 2007.
James J. Slack,
Deputy Regional Director, Region 6, Denver, Colorado.

[FR Doc. E7-3463 Filed 2-27-07; 8:45 am]

BILLING CODE 4310-55-P